DEPARTMENT OF AGRICULTURE

Animal and Plant Health Inspection Service

[Docket No. APHIS-2015-0025]

Secretary's Advisory Committee on Animal Health; Meeting

AGENCY: Animal and Plant Health Inspection Service, USDA.

ACTION: Notice of meeting.

SUMMARY: This is a notice to inform the public of an upcoming meeting of the Secretary's Advisory Committee on Animal Health. The meeting is being organized by the Animal and Plant Health Inspection Service to discuss matters of animal health.

DATES: The meeting will be held on April 28 and 29, 2015, from 9 a.m. to 5 p.m. each day.

ADDRESSES: The meeting will be held at the Bethesda Marriott, 5151 Pooks Hill Road, Bethesda, MD 20814.

FOR FURTHER INFORMATION CONTACT: Mrs. R.J. Cabrera, Designated Federal Officer, VS, APHIS, 4700 River Road Unit 34, Riverdale, MD 20737; phone (301) 851-3478, email SACAH.Management@aphis.usda.gov.

SUPPLEMENTARY INFORMATION:

The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion at the meeting include:

• Follow-on discussion of antimicrobial resistance, mitigations, and the U.S. Department of Agriculture (USDA) action plan,

• Comprehensive discussion on porcine epidemic diarrhea,

• Follow-on discussion on foot-and-mouth disease,

• USDA draft framework for emerging diseases,

• Proposed national list of reportable animal diseases,

• Avian influenza, and

• Bovine tuberculosis program—understanding the disease.

A final agenda will be posted on the Committee Web site by April 13, 2015.

Those wishing to attend the meeting in person must complete a brief registration form by clicking on the “SACAH Meeting Sign-Up” button on the Committee's Web site (http://www.aphis.usda.gov/animalhealth/sacah). Members of the public may also join the meeting via teleconference in “listen-only” mode. Participants who wish to listen in on the teleconference may do so by dialing 1-888-469-3079 and then entering the public passcode, 2061888#.

Due to time constraints, members of the public will not have an opportunity to participate in the Committee's discussions. However, questions and written statements for the Committee's consideration may be submitted up to 5 working days before the meeting. They may be sent to SACAH.Management@aphis.usda.gov or mailed to the person listed on the notice under FOR FURTHER INFORMATION CONTACT. Statements filed with the Committee should specify that they pertain to the April 2015 Committee meeting.

This notice of meeting is given pursuant to section 10 of the Federal Advisory Committee Act (5 U.S.C. App. 2).

Done in Washington, DC, this 8th day of April 2015.
Kevin Shea,
Administrator, Animal and Plant Health Inspection Service.

[FR Doc. 2015-08603 Filed 4-13-15; 8:45 am]

BILLING CODE 3410-34-P